DEPARTMENT OF DEFENSE

Department of the Army; Corps of Engineers

Intent To Prepare an Environmental Impact Statement for the Northern Colorado Water Conservancy District's Northern Integrated Supply Project

Correction

In notice document 04-19117 beginning on page 51640 in the issue of August 20, 2004, make the following corrections:

1. On page 51640, in the third column, under the DATES heading, in paragraph 1., the date “September 20, 3004” should read, “September 20, 2004.”

2. On page 51641, in the second column, in the first line, “4232(2)(c)” should read, “4332(2)(c).”

[FR Doc. C4-19117 Filed 8-26-04; 8:45 am]

BILLING CODE 1505-01-D

DEPARTMENT OF DEFENSE

Department of the Army; Corps of Engineers

Notice of Availability of the Draft Environmental Impact Statement/Environmental Impact Report for the Proposed Prado Basin Water Supply, Riverside and San Bernardino Counties, CA

Correction

In notice document 04-19116 beginning on page 51639 in the issue of Friday, August 20, 2004, make the following corrections:

1. On page 51639, in the third column, under FOR FURTHER INFORMATION CONTACT, in the fifth and sixth lines, “(213) 451-3860” should read “(213) 452-3860.”

2. On the same page, in the same column, under the same heading, in the 10th line, “(213) 451-3811” should read “(213) 452-3811.”

[FR Doc. C4-19116 Filed 8-26-04; 8:45 am]

BILLING CODE 1505-01-D

FEDERAL COMMUNICATIONS COMMISSION

[DA 04-1553]

Wireless Telecommunications Bureau Lists Private Land Mobile Licenses Cancelled as a Result of the Spectrum Audit

Correction

In notice document 04-16086 beginning on page 43144 in the issue of Monday, July 19, 2004, correct the docket number in the document heading to read as set forth above.

[FR Doc. C4-16086 Filed 8-26-04; 8:45 am]

BILLING CODE 1505-01-D